DEPARTMENT OF COMMERCE

International Trade Administration

[A-580-816]

Certain Corrosion-Resistant Carbon Steel Flat Products from the Republic of Korea: Notice of Final Results of the Thirteenth Administrative Review

AGENCY: Import Administration, International Trade Administration, Department of Commerce.

SUMMARY: On September 10, 2007, the Department of Commerce (the Department) published the preliminary results of the antidumping duty administrative review for certain corrosion-resistant carbon steel flat products (CORE) from the Republic of Korea (Korea). See Certain Corrosion-Resistant Carbon Steel Flat Products from the Republic of Korea: Notice of Preliminary Results and Partial Rescission of Antidumping Duty Administrative Review, 72 FR 51584 (September 10, 2007) (Preliminary Results). This review covers three¹ manufacturers/exporters of the subject merchandise: Dongbu Steel Co., Ltd. (Dongbu); Hyundai HYSCO (HYSCO); and Union Steel Manufacturing Co., Ltd. (Union) (collectively, respondents). The period of review (POR) is August 1, 2005, through July 31, 2006.

¹ Pohang Iron & Steel Company, Ltd. (POSCO) and Pohang Coated Steel Co., Ltd. (POCOS) (collectively, the POSCO Group) were originally included as a respondent in the instant review; however, the Department rescinded this review with respect to the POSCO Group. See Certain Corrosion-Resistant Carbon Steel Flat Products from the Republic of Korea: Partial Rescission of Antidumping Duty Administrative, 72 FR 58286 (October 15, 2007) (POSCO Rescission).

As a result of our analysis of the comments received, these final results differ from the Preliminary Results. For our final results, we have found that during the POR, HYSCO, Dongbu and Union sold subject merchandise at less than normal value (NV).

EFFECTIVE DATE: March 17, 2008.

FOR FURTHER INFORMATION CONTACT: Christopher Hargett (HYSCO), Cindy Robinson (Dongbu), Victoria Cho (the POSCO Group), and Jolanta Lawska (Union), AD/CVD Operations, Office 3, Import Administration, International Trade Administration, U.S. Department of Commerce, 14th Street and Constitution Avenue, NW, Washington, DC 20230; telephone: (202) 482-4161, (202) 482-3797, (202) 482-5075, and (202) 482-8362, respectively.

SUPPLEMENTARY INFORMATION:

Background

On September 10, 2007, the Department published the Preliminary Results. On October 26, 2007, the Department published the notice of extension of final results of the antidumping administrative review of CORE from Korea, extending the date for these final results to March 10, 2008. See Corrosion-Resistant Carbon Steel Flat Products From Korea: Extension of Time Limits for the Final Results of Antidumping Duty Administrative Review, 72 FR 60799 (October 26, 2007).

Comments from Interested Parties

We invited parties to comment on our Preliminary Results. On January 22, 2008, ArcelorMittal Steel Inc. (Mittal), United States Steel Corporation (US Steel), and Nucor Corporation (Nucor) filed case briefs concerning all of the respondents and each of the respondents filed a case brief. On January 28, 2008, Mittal, US Steel, and Nucor each filed a rebuttal brief concerning all of the respondents. On January 28, 2008, each of the respondents filed a rebuttal brief.

Scope of the Order

This order covers cold-rolled (cold-reduced) carbon steel flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are corrosion-resistant flat-rolled products of non-rectangular cross-section where such cross-section is achieved subsequent to the rolling process (i.e., products which have been “worked after rolling”) - for example, products which have been beveled or rounded at the edges. Excluded from this order are flat-rolled steel products either plated or coated with tin, lead, chromium, chromium oxides, both tin and lead (terne plate), or both chromium and chromium oxides (tin-free steel), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%%-60%%-20%% ratio.

These HTSUS item numbers are provided for convenience and customs purposes. The written descriptions remain dispositive.

Analysis of Comments Received

All issues raised in the case and rebuttal briefs by parties to this administrative review are addressed in the accompanying Issues and Decision Memorandum, which is hereby adopted by this notice. A list of the issues which parties have raised, and to which we have responded in the Issues and Decision Memorandum, is attached to this notice as an Appendix. In addition, a complete version of the Issues and Decision Memorandum can be accessed directly on the Internet at <http://ia.ita.doc.gov/frn>. The paper copy and electronic version of the Issues and Decision Memorandum are identical in content.

Final Results of Review:

We determine that the following weighted-average margins exist:

Producer/Manufacturer | Weighted-Average Margin
Dongbu | 4.96%%
Union | 4.35%%
HYSCO | 0.53%%

Assessment

The Department will determine, and U.S. Customs and Border Protection (CBP) shall assess, antidumping duties on all appropriate entries, pursuant to 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department intends to issue appropriate assessment instructions directly to CBP 15 days after publication of these final results of review. The Department clarified its “automatic assessment'” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the final results of this administrative review for all shipments of CORE from Korea entered, or withdrawn from warehouse, for consumption on or after the publication date of these final results, as provided by section 751(a) of the Tariff Act of 1930, as amended (the Act): (1) for companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 17.70 percent, the all-others rate established in the less-than-fair-value investigation. These deposit requirements shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: March 10, 2008.
David M. Spooner,
Assistant Secretary for Import Administration.

Appendix I

List of Comments in the Accompanying Issues and Decision Memorandum

A. General Issues

Comment 1: Treatment of Sales with Negative Dumping Margins (Zeroing)

Comment 2: Model-Match Methodology and Laminated Products

B. Company-Specific Issues

Dongbu Steel Co., Ltd.

Comment 3: CEP Offset

Comment 4: Home Market Rebates

Comment 5: Scrap Offset

Union Steel Manufacturing Co., Ltd.

Comment 6: CEP Offset

Comment 7: Indirect Selling Expense

Comment 8: U.S. Warranty Expenses

Comment 9: Treatment of Certain Home Market Sales as Non-Prime Merchandise

Comment 10: Treatment of E-Business Sales in the Home Market as Overruns

Hyundai HYSCO

Comment 11: Non-Prime Merchandise in the Calculation of Normal Value

Comment 12: CEP Selling Expenses Incurred in Korea

Comment 13: POR Window Period

Comment 14: Short-Term Interest Rate

Comment 15: HHU CEP Selling Expenses

Comment 16: Sales to Affiliates in the CEP Profit Calculation

Comment 17: Inclusion of Scrap Revenue in the Cost of Goods Sold

[FR Doc. E8-5298 Filed 3-14-08; 8:45 am]

BILLING CODE 3510-DR-S